DEPARTMENT OF COMMERCE

National Oceanic and Atmospheric Administration

[I.D. 061901A]

Proposed Information Collection; Comment Request; Swordfish Import Certificate of Eligibility

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before August 21, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Christopher Rogers, Highly Migratory Species Management Division (F/SF1), Office of Sustainable Fisheries, NMFS, 1315 East-West Highway, Silver Spring, MD 20910 (phone 301-713-2347).

SUPPLEMENTARY INFORMATION:

I. Abstract

Under the provisions of the Magnuson-Stevens Fishery Conservation and Management Act (16 U.S.C. 1801 et seq.), NOAA is responsible for management of the Nation’s marine fisheries. In addition, NOAA must comply with the United States’ obligations under the Atlantic Tunas Convention Act of 1975 (16 U.S.C. 971 et seq.). A Certificate of Eligibility for Swordfish is required under 50 CFR part 635 to accompany all imported swordfish. This documentation certifies that the accompanying swordfish is not from the Atlantic Ocean, or is from the Atlantic Ocean but is larger than the minimum size, or is Atlantic swordfish pieces derived from a fish greater than the minimum size limit. The certificate must accompany the swordfish from the point of original export up to and including the point of first transaction in the United States. This collection is necessary to implement the Fishery Management Plan for Atlantic Tunas, Sharks, and Swordfish and is consistent with the objective of that plan to rebuild Atlantic swordfish and manage a sustainable fishery.

II. Method of Collection

A paper certificate is completed and must be maintained.

III. Data

OMB Number: 0648-0363.

Form Number: None.

Type of Review: Regular submission.

Affected Public: Business or other for-profit organizations.

Estimated Number of Respondents: 204.

Estimated Time Per Response: 1 hour.

Estimated Total Annual Burden Hours: 5,700.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 15, 2001.
Madeleine Clayton,
Departmental Paperwork Clearance Officer, Office of the Chief Information Officer.

[FR Doc. 01-15745 Filed 6-21-01; 8:45 am]

BILLING CODE 3510-22-S